NEIGHBORHOOD REINVESTMENT CORPORATION

Regular Board of Directors Meeting; Sunshine Act

Time and Date: 2 p.m., Monday, December 6, 2004.

Place: Neighborhood Reinvestment Corporation, 1325 G Street, NW., Suite 800, Washington, DC 2005.

Status: Open/closed.

FOR FURTHER INFORMATION CONTACT: Jeffrey T. Bryson, General Counsel/Secretary, (202) 220-2372; jbryson@nw.org.

Agenda:

I. Call to Order

II. Approval of Minutes: September 20, 2004 Regular Meeting

III. Audit Committee Report

A. Tape Recording of Meetings

IV. Treasurer's Report

V. Establishment of a Committee To Review Fundraising Activities

VI. CEO Management Report

VII. Executive Session (Closed)

a. Corporate Administration Committee Reports

b. Update on COO Search

VIII. Adjournment

Jeffrey T. Bryson,
General Counsel/Secretary.

[FR Doc. 04-26678 Filed 11-30-04; 3:18 pm]

BILLING CODE 7510-01-M